DEPARTMENT OF ENERGY

Federal Energy Regulatory Commission

[Project Nos. 15230-000, 15231-000]

Pike Island Hydropower Corporation, Pike Island Hydropower Project, LLC; Notice of Competing Preliminary Permit Applications Accepted for Filing and Soliciting Comments, Motions To Intervene, and Competing Applications

On August 2, 2021, Pike Island Hydropower Corporation filed a preliminary permit application, pursuant to section 4(f) of the Federal Power Act, proposing to study the feasibility of a hydropower project at the U.S. Army Corps of Engineers' (Corps) Pike Island Lock and Dam, located on the Ohio River near the City of Wheeling, West Virginia. On August 13, 2021, Pike Island Hydropower Project, LLC filed a preliminary permit application to study the feasibility of a hydropower project, at same site and location, on the same river, near Wheeling, West Virginia. The sole purpose of a preliminary permit, if issued, is to grant the permit holder priority to file a license application during the permit term. A preliminary permit does not authorize the permit holder to perform any land-disturbing activities or otherwise enter upon lands or waters owned by others without the owners' express permission.

Pike Island Hydropower Corporation's Pike Island Locks and Dam Hydroelectric Project (Project No. 15230-000) would consist of: (1) 160-foot-wide by 100 to 200-foot-long intake section containing trashracks; (2) a new 160-foot-wide by 160-foot-long concrete powerhouse containing two, three, or four identical Kaplan pit turbine-generators with a combined net power capacity of 20 megawatts (MW); (3) a new 160-foot-wide, 300-foot-long tailrace channel downstream of the powerhouse. The height of the proposed powerhouse and intake structure would be 658 feet above mean sea level (msl); (4) a new 200-foot-wide by 200-foot-long substation; (5) a new 1.4-mile-long, 69 kilovolt (kV), three phase overhead transmission line connecting the project substation with an existing substation in Tiltonsville, OH; and (6) appurtenant facilities. The estimated average annual energy production is 151 Gigawatt-hours (“GWh”).

Applicant Contact: Mr. Joel Herm, Pike Island Hydropower Corporation, P.O. Box 224, Rhinebeck, NY 12572-0224; Telephone: 917-244-3607.

Pike Island Hydropower Project, LLC's proposed Pike Island Hydroelectric Project (Project No. 15231-000) would consist of: (1) 225-foot-wide by 50-foot-long intake section containing trashracks, sluice gates, intake gates; (2) a new 160-foot-wide by 140-foot-long concrete powerhouse containing three new pit-type Kaplan turbines rated at 15 MW each; (3) a new 200-foot wide, 500-foot-long tailrace channel downstream of the powerhouse. The height of the proposed powerhouse and intake structure is 654 feet above msl; (4) a new 80-foot-wide by 120-foot-long, substation; (5) a new 1.288-mile-long, 138 kV, three phase overhead transmission line connecting the new project substation with an existing utility substation located in Yorkville, Ohio; and (6) appurtenant facilities. The estimated average annual energy production is 225 GWh.

Applicant Contact: Mr. Erik Steimle, Rye Development, LLC, One Beacon Street, 15th Floor, Boston, MA 02108; Telephone: (503) 998-0230.

FERC Contact: Tyrone A. Williams, tyrone.williams@ferc.gov or (202) 502-6331.

Deadline for filing comments, motions to intervene, competing applications (without notices of intent), or notices of intent to file competing applications: 60 days from the issuance of this notice. Competing applications and notices of intent must meet the requirements of 18 CFR 4.36.

The Commission strongly encourages electronic filing. Please file the requested information using the Commission's eFiling system at https://ferconline.ferc.gov/FERCOnline.aspx. For assistance, please contact FERC Online Support at FERCOnlineSupport@ferc.gov, (866) 208-3676 (toll free), or (202) 502-8659 (TTY). In lieu of electronic filing, you may submit a paper request. Submissions sent via the U.S. Postal Service must be addressed to: Kimberly D. Bose, Secretary, Federal Energy Regulatory Commission, 888 First Street NE, Room 1A, Washington, DC 20426. New Submissions sent via any other carrier must be addressed to: Kimberly D. Bose, Secretary, Federal Energy Regulatory Commission, 12225 Wilkins Avenue, Rockville, Maryland 20852. The first page of any filing should include docket number P-15320-000 or P-15321-000.

More information about the projects, including a copy of the applications, can be viewed or printed on the “eLibrary” link of Commission's website at http://www.ferc.gov/docs-filing/elibrary.asp. Enter the docket number (P-15320 or P-15321) in the docket number field to access the documents. For assistance, contact FERC Online Support.

Dated: November 17, 2021.
Kimberly D. Bose,
Secretary.

[FR Doc. 2021-25622 Filed 11-23-21; 8:45 am]

BILLING CODE 6717-01-P